DEPARTMENT OF COMMERCE

United States Patent and Trademark Office

Patent Processing (Updating)

ACTION: Proposed collection; comment request.

SUMMARY: The United States Patent and Trademark Office (USPTO), as part of its continuing effort to reduce paperwork and respondent burden, invites the general public and other Federal agencies to take this opportunity to comment on the revision of a continuing information collection, as required by the Paperwork Reduction Act of 1995, Public Law 104-13 (44 U.S.C. 3506(c)(2)(A)).

DATES: Written comments must be submitted on or before May 21, 2012.

ADDRESSES: You may submit comments by any of the following methods:

• Email: InformationCollection@uspto.gov. Include “0651-0031 comment” in the subject line of the message.

• Mail: Susan K. Fawcett, Records Officer, Office of the Chief Information Officer, United States Patent and Trademark Office, P.O. Box 1450, Alexandria, VA 22313-1450.

• Federal Rulemaking Portal: http://www.regulations.gov.

FOR FURTHER INFORMATION CONTACT: Requests for additional information should be directed to the attention of Raul Tamayo, Legal Advisor, Office of Patent Legal Administration, United States Patent and Trademark Office, P.O. Box 1450, Alexandria, VA 22313-1450, by telephone at (571) 272-7728, or by email to Raul.Tamayo@uspto.gov with “Paperwork” in the subject line. Additional information about this collection is also available at http://www.reginfo.gov under “Information Collection Review.”

SUPPLEMENTARY INFORMATION:

I. Abstract

The United States Patent and Trademark Office (USPTO) is required by 35 U.S.C. 131 to examine an application for patent and, when appropriate, issue a patent. Also, the USPTO is required to publish patent applications, with certain exceptions, promptly after the expiration of a period of eighteen months from the earliest filing date for which a benefit is sought under Title 35, United States Code (“eighteen-month publication”). Certain situations may arise which require that additional information be supplied in order for the USPTO to further process the patent or application. The USPTO administers the statutes through various sections of the rules of practice in 37 CFR Part 1.

The information in this collection can be used by the USPTO to continue the processing of the patent or application to ensure that applicants are complying with the patent regulations and to aid in the prosecution of the application.

Modifications to this collection since the previous renewal include: three requests for non-substantive change; separately accounting for two requirements; the deletion of an item from the collection, and adding electronic equivalents for the majority of the paper forms. The USPTO is also planning to move items out of 0651-0031 into two new collections.

The three requests for non-substantive change include one in August of 2010 making two changes to an existing form (PTOL-413A); and a second in November of 2010 adding a form for an item that was currently approved (Petition to Withdraw an Application from Issue). The third request for non-substantive change involved six items being deleted from this collection in December of 2011 that had been moved into a new ICR, 0651-0059 Certain Patent Petitions Requiring a Fee. These items include Petitions for Extension of Time under 37 CFR 1.136(b)(PTO/SB/23); Petition for Express Abandonment to Avoid Publication under 1.138(c)(PTO/SB/24a); Petition for Request for Documents in a Form Other Than That Provided by 1.19; Petitions under 37 CFR 1.17(g); Petitions under 37 CFR 1.17(h); and Petition to Make Special under Accelerated Examination Program (PTO/SB28).

The two items being separately accounted for in this collection are (i) Rule 1.130, 1.131, and 1.132 Affidavits or Declarations and (ii) Amendments and Responses.

One item is being deleted from the collection, Request for Processing of Replacement Drawings in Any Patent Application Publication. The USPTO phased out these requests over the last several years due to IT upgrades.

Currently, notices of appeal, requests for oral hearing, and pre-appeal brief requests for review are covered under this collection. The USPTO has determined that it would be beneficial to assign these items to their own collection. The USPTO is planning to submit a request to the OMB for a new collection, Matters Related to Patent Appeals, and is planning to ultimately transfer these three notices and requests out of the 0651-0031 inventory and into this new collection upon approval by OMB.

The Leahy-Smith America Invents Act was enacted into law on September 16, 2011 (See Pub. L. 112-29, 125 Stat. 284 (2011)). The USPTO published a notice of proposed rulemaking titled “Changes to Implement Miscellaneous Post Patent Provisions of the Leahy-Smith America Invents Act” (RIN 0651-AC66) in the Federal Register. In the notice, the USPTO proposed to rewrite 37 CFR 1.501 to reflect the amendment to 35 U.S.C. 301 by section 6(g)(1) of the Leahy-Smith America Invents Act. Proposed 37 CFR 1.501 provides that a submission can include prior art and claim scope statements of the patent owner. In light of the proposed rulemaking, the USPTO submitted a request for a new information collection, Post Patent Public Submissions, and requested that the existing item “Information Disclosure Citation in a Patent” (PTO/SB/42) be transferred out of the 0651-0031 Patent Processing (Updating) approved inventory and into this new collection when this new collection is approved by OMB.

II. Method of Collection

In general, the items in this collection can be submitted to the USPTO on paper by mail, facsimile, or hand delivery, or electronically through EFS-Web, the USPTO's Web-based electronic filing system.

III. Data

OMB Number: 0651-0031.

Form Number(s): PTO/SB/08/08a/08b, PTO/SB/17i, PTO/SB/21-22, PTO/SB/24-27, PTO/SB/24B, PTO/SB/30-33, PTO/SB/35-39, PTO/SB/42-43, PTO/SB/61-64, PTO/SB/64a, PTO/SB/67-68, PTO/SB/91-92, PTO/SB/96-97, PTO-2053-A/B, PTO-2054-A/B, PTO-2055-A/B, PTOL/413A.

Type of Review: Revision of a currently approved collection.

Affected Public: Individuals or households; business or other for-profit; not-for-profit institutions.

Estimated Number of Respondents: 4,777,532 responses per year.

Estimated Time per Response: The USPTO estimates that it will take the public an average of 1 minute, 48 seconds (0.03 hours) to 10 hours to complete the collections of information described in this submission, depending on the nature of the information. This includes time to gather the necessary information, create the documents, and mail the completed request, depending upon the complexity of the situation. The time estimates shown for the electronic forms are based on the average amount of time needed to complete and electronically file the associated forms.

Estimated Total Annual Respondent Burden Hours: 11,972,777 hours.

Estimated Total Annual Respondent Cost Burden: $3,573,910,186. The USPTO expects that attorneys and paraprofessionals will complete and submit this information. The estimated hourly rate for attorneys is $340 and the paraprofessional rate is $122.

Item | Estimated time for response | Estimated annual responses | Estimated annual burden hours
EFS-Web IDS (Information Disclosure Statements) that do not require the fee set forth in 37 CFR 1.17(p) | 2 hours | 500,000 | 1,000,000
Information Disclosure Statements that do not require the fee set forth in 37 CFR 1.17(p) | 2 hours | 40,000 | 80,000
EFS-Web IDS (Information Disclosure Statements) that require the fee set forth in 37 CFR 1.17(p) | 2 hours | 100,000 | 200,000
Information Disclosure Statements that require the fee set forth in 37 CFR 1.17(p) | 2 hours | 10,000 | 20,000
Electronic Transmittal Form | 2 hours | 1,020,000 | 2,040,000
Transmittal Form | 2 hours | 80,000 | 160,000
Electronic Petition for Extension of Time under 37 CFR 1.136(a) | 6 minutes | 295,000 | 29,500
Petition for Extension of Time under 37 CFR 1.136(a) | 6 minutes | 20,100 | 2,010
Electronic Express Abandonment under 37 CFR 1.138 | 12 minutes | 6,500 | 1,300
Express Abandonment under 37 CFR 1.138 | 12 minutes | 500 | 100
Electronic Disclaimers | 12 minutes | 40,000 | 8,000
Disclaimers | 12 minutes | 5,000 | 1,000
Electronic Request for Expedited Examination of a Design Application | 6 minutes | 370 | 37
Request for Expedited Examination of a Design Application | 6 minutes | 30 | 3
Electronic Notice of Appeal | 12 minutes | 34,900 | 6,980
Notice of Appeal | 12 minutes | 2,600 | 520
Electronic Information Disclosure Citation in a Patent | 10 hours | 930 | 9,300
Information Disclosure Citation in a Patent | 10 hours | 70 | 700
Electronic Petition for Revival of an Application for Patent Abandoned Unavoidably | 8 hours | 330 | 2,640
Petition for Revival of an Application for Patent Abandoned Unavoidably | 8 hours | 30 | 240
Electronic Petition for Revival of an Application for Patent Abandoned Unintentionally | 1 hour | 7,400 | 7,400
Petition for Revival of an Application for Patent Abandoned Unintentionally | 1 hour | 600 | 600
Electronic Petition for Revival of an Application for Patent Abandoned for Failure to Notify the Office of a Foreign or International Filing | 1 hour | 230 | 230
Petition for Revival of an Application for Patent Abandoned for Failure to Notify the Office of a Foreign or International Filing | 1 hour | 20 | 20
Electronic Requests to Access, Inspect and Copy | 12 minutes | 121,000 | 24,200
Requests to Access, Inspect and Copy | 12 minutes | 9,000 | 1,800
Electronic Deposit Account Order Form | 12 minutes | 90 | 18
Deposit Account Order Form | 12 minutes | 10 | 2
Electronic Certificates of Mailing, Transmission | 1 minute, 48 seconds | 930,000 | 27,900
Certificates of Mailing, Transmission | 1 minute, 48 seconds | 70,000 | 2,100
Electronic Statement Under 37 CFR 3.73(b) | 12 minutes | 140,000 | 28,000
Statement Under 37 CFR 3.73(b) | 12 minutes | 10,000 | 2,000
Electronic Non-publication Request | 6 minutes | 21,500 | 2,150
Non-publication Request | 6 minutes | 1,500 | 150
Electronic Rescission of Previous Non-publication Request (35 U.S.C. 122(b)(2)(B)(ii)) and, if applicable, Notice of Foreign Filing (35 U.S.C. 122(b)(2)(B)(iii)) | 6 minutes | 1,000 | 100
Rescission of Previous Non-publication Request (35 U.S.C. 122(b)(2)(B)(ii)) and, if applicable, Notice of Foreign Filing (35 U.S.C. § 122(b)(2)(B)(iii)) | 6 minutes | 100 | 10
Electronic Filing System (EFS) Copy of Application for Publication | 2 hours, 30 minutes | 1 | 3
Copy of File Content Showing Redactions | 4 hours | 1 | 4
Copy of the Applicant or Patentee's Record of the Application (including copies of the correspondence, list of the correspondence, and statements verifying whether the record is complete or not) | 2 hours | 20 | 40
EFS-Web Request for Continued Examination (RCE) Transmittal | 12 minutes | 150,000 | 30,000
Request for Continued Examination (RCE) Transmittal | 12 minutes | 10,000 | 2,000
Electronic Request for Oral Hearing Before the Board of Patent Appeals and Interferences | 12 minutes | 1,100 | 220
Request for Oral Hearing Before the Board of Patent Appeals and Interferences | 12 minutes | 100 | 20
Electronic Request for Suspension of Action or Deferral of Examination Under 37 CFR 1.103(b), (c), or (d) | 12 minutes | 560 | 112
Request for Suspension of Action or Deferral of Examination Under 37 CFR 1.103(b), (c), or (d) | 12 minutes | 40 | 8
EFS-Web Request for Voluntary Publication or Republication | 12 minutes | 650 | 130
Request for Voluntary Publication or Republication | 12 minutes | 50 | 10
Electronic Applicant Initiated Interview Request Form | 24 minutes | 1,900 | 760
Applicant Initiated Interview Request Form | 24 minutes | 100 | 40
Electronic Processing Fee Under 37 CFR 1.17(i) Transmittal | 5 minutes | 3,300 | 264
Processing Fee Under 37 CFR 1.17(i) Transmittal | 5 minutes | 200 | 16
Electronic Request to Retrieve Electronic Priority Application(s) Under 37 CFR 1.55(d) | 8 minutes | 60,000 | 7,800
Request to Retrieve Electronic Priority Application(s) Under 37 CFR 1.55(d) | 8 minutes | 5,000 | 650
Electronic Authorization to Permit Access to Application by Participating Offices Under 37 CFR 1.14(h) | 6 minutes | 19,000 | 1,900
Authorization to Permit Access to Application by Participating Offices Under 37 CFR 1.14(h) | 6 minutes | 1,000 | 100
Electronic Petition for Express Abandonment to Obtain a Refund | 12 minutes | 2,000 | 400
Petition for Express Abandonment to Obtain a Refund | 12 minutes | 100 | 20
Electronic Pre-Appeal Brief Request for Review | 5 hours | 14,700 | 73,500
Pre-Appeal Brief Request for Review | 5 hours | 1,100 | 5,500
EFS-Web Request for Corrected Filing Receipt | 5 minutes | 22,000 | 1,760
Request for Corrected Filing Receipt | 5 minutes | 2,000 | 160
Electronic Request for First Action Interview (Pilot Program) | 2 hours, 30 minutes | 1,500 | 3,750
Petition to Make Special Based on Age for Advancement of Examination under 37 CFR 1.105(c)(1) (EFS-Web only) | 2 hours | 2,300 | 4,600
Rule 1.130, 1.131, and 1.132 Affidavits or Declarations | 10 hours | 50,000 | 500,000
Electronic Amendments and Responses | 8 hours | 893,000 | 7,144,000
Amendments and Responses | 8 hours | 67,000 | 536,000
Totals |  | 4,777,532 | 11,972,777

Estimated Total Annual (Non-Hour) Respondent Cost Burden: $357,380,557. This collection has postage costs and filing fees.

The public may submit the paper forms and petitions in this collection to the USPTO by mail through the United States Postal Service. If the submission is sent by first-class mail, the public may also include a signed certification of the date of mailing in order to receive credit for timely filing. Therefore, the USPTO estimates that up to 386,271 submissions per year may be mailed. The USPTO estimates that the average submission will be mailed in a standard manila envelope with a weight of 3 ounces at a cost of $1.28, resulting in a total postage cost of $494,427 per year for this collection.

There is annual (non-hour) cost burden in the way of filing fees associated with this collection of $356,886,130, as shown in the accompanying table.

Item | Responses (yr) | Filing fee $ | Total non-hour cost burden (a × b)
| (a) | (b) | (c)
EFS-Web Information Disclosure Statements (IDS) that require the fee set forth in 37 CFR 1.17(p) | 100,000 | $180.00 | $18,000,000.00
Information Disclosure Statements (IDS) that require the fee set forth in 37 CFR 1.17(p) | 10,000 | 180.00 | 1,800,000.00
Transmittal Forms | 1,100,000 | None | 0.00
One-month extension of time under 37 CFR 1.136(a) | 110,000 | 150.00 | 16,500,000.00
One-month extension of time under 37 CFR 1.136(a) (small entity) | 40,000 | 75.00 | 3,000,000.00
Two-month extension of time under 37 CFR 1.136(a) | 50,000 | 560.00 | 28,000,000.00
Two-month extension of time under 37 CFR 1.136(a) (small entity) | 21,000 | 280.00 | 5,880,000.00
Three-month extension of time under 37 CFR 1.136(a) | 50,000 | 1,270.00 | 63,500,000.00
Three-month extension of time under 37 CFR 1.136(a) (small entity) | 31,000 | 635.00 | 19,685,000.00
Four-month extension of time under 37 CFR 1.136(a) | 3,300 | 1,980.00 | 6,534,000.00
Four-month extension of time under 37 CFR 1.136(a) (small entity) | 2,500 | 990.00 | 2,475,000.00
Five-month extension of time under 37 CFR 1.136(a) | 3,800 | 2,690.00 | 10,222,000.00
Five-month extension of time under 37 CFR 1.136(a) (small entity) | 3,500 | 1,345.00 | 4,707,500.00
Express abandonment under 37 CFR 1.138 | 7,000 | None | 0.00
Statutory Disclaimer | 35,500 | 160.00 | 5,680,000.00
Statutory Disclaimer (small entity) | 9,500 | 80.00 | 760,000.00
Request for expedited examination of a design application | 400 | 900.00 | 360,000.00
Electronic Notice of Appeal | 27,900 | 620.00 | 17,298,000.00
Electronic Notice of Appeal (small entity) | 7,000 | 310.00 | 2,170,000.00
Notice of Appeal | 2,100 | 620.00 | 1,302,000.00
Notice of Appeal (small entity) | 500 | 310.00 | 155,000.00
Information Disclosure Citations | 1,000 | None | 0.00
Petition to Revive Unavoidably Abandoned Application | 120 | 620.00 | 74,400.00
Petition to Revive Unavoidably Abandoned Application (small entity) | 240 | 310.00 | 74,400.00
Petition to Revive Unintentionally Abandoned Application | 3,800 | 1,860.00 | 7,068,000.00
Petition to Revive Unintentionally Abandoned Application (small entity) | 4,200 | 930.00 | 3,906,000.00
Petition for revival of an application for patent abandoned for failure to notify the office of a foreign or international filing | 200 | 1,860.00 | 372,000.00
Petition for revival of an application for patent abandoned for failure to notify the office of a foreign or international filing (small entity) | 50 | 930.00 | 46,500.00
Requests to Access, Inspect and Copy | 130,000 | None | 0.00
Deposit Account Order Form | 100 | None | 0.00
Certificates of Mailing/Transmission | 1,000,000 | None | 0.00
Statement under 37 CFR 3.73(b) | 150,000 | None | 0.00
Non-publication Request | 23,000 | None | 0.00
Rescission of Previous Non-publication Request (35 U.S.C. 122(b)(2)(B)(ii)) and, if applicable, Notice of Foreign Filing (35 U.S.C. 122(b)(2)(B)(iii)) | 1,100 | None | 0.00
EFS Copy of Application for Publication | 1 | None | 0.00
Copy of File Content Showing Redactions | 1 | 130.00 | 130.00
Copy of the Applicant or Patentee's Record of the Application (including copies of the correspondence, list of the correspondence, and statements verifying whether the record is complete or not) | 20 | None | 0.00
Request for Continued Examination (RCE) Transmittal | 131,000 | 930.00 | 121,830,000.00
Request for Continued Examination (RCE) Transmittal (small entity) | 29,000 | 465.00 | 13,485,000.00
Electronic Request for Oral Hearing | 900 | 1,240.00 | 1,116,000.00
Electronic Request for Oral Hearing (small entity) | 200 | 620.00 | 124,000.00
Request for Oral Hearing | 60 | 1,240.00 | 74,400.00
Request for Oral Hearing (small entity) | 40 | 620.00 | 24,800.00
Processing fee for requests for suspension of action or deferrals of examination under 37 CFR 1.103(b),(c),or(d) | 600 | 130.00 | 78,000.00
Request for voluntary publication or republication under 37 CFR 1.221(a) | 300 | 430.00 | 129,000.00
Applicant initiated interview request form | 2,000 | None | 0.00
Processing fee under 37 CFR 1.17(i) transmittal | 3,500 | 130.00 | 455,000.00
Request to retrieve electronic priority application(s) under 37 CFR 1.55(d) | 65,000 | None | 0.00
Authorization to permit access to application by participating offices under 37 CFR 1.17(h) | 20,000 | None | 0.00
Petition for express abandonment to obtain a refund | 2,100 | None | 0.00
Electronic Pre-Appeal Brief Request for Review | 11,700 | None | 0.00
Electronic Pre-Appeal Brief Request for Review (small entity) | 3,000 | None | 0.00
Pre-Appeal Brief Request for Review | 900 | None | 0.00
Pre-Appeal Brief Request for Review (small entity) | 200 | None | 0.00
Request for Corrected filing receipt (electronic) | 22,000 | None | 0.00
Request for Corrected filing receipt | 2,000 | None | 0.00
Electronic Request for First Action Interview (Pilot Program) | 1,500 | None | 0.00
Petition to Make Special Based on Age for Advancement of Examination Under 37 CFR 1.105(c)(1) (EFS-Web only) | 2,300 | None | 0.00
Rule 1.130, 1.131, and 1.132 Affidavits or Declarations | 50,000 | None | 0.00
Electronic Amendments and Responses | 893,000 | None | 0.00
Amendments and Responses | 67,000 | None | 0.00
TOTAL | 4,237,132 |  | 356,886,130.00

The USPTO estimates that the total (non-hour) respondent cost burden for this collection in the form of postage costs and filing fees will be $357,380,557.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they will also become a matter of public record.

Dated: March 19, 2012.
Susan K. Fawcett,
Records Officer, USPTO, Office of the Chief Information Officer.

[FR Doc. 2012-6888 Filed 3-21-12; 8:45 am]

BILLING CODE 3510-16-P